DEPARTMENT OF TRANSPORTATION

Federal Motor Carrier Safety Administration

Sunshine Act Meetings; Unified Carrier Registration Plan Board of Directors

AGENCY: Federal Motor Carrier Safety Administration.

Time and Date: June 13, 2006; 10:15 a.m. to 11:30 a.m.

Place: Birmingham, Alabama.

Status: Open to the public.

Matters to be Considered: An overview of the Unified Carrier Registration Plan and Agreement requirements set forth under section 4305 of the Safe, Accountable, Flexible, Efficient Transportation Equity Act: A Legacy for Users and the administrative functioning of the Board.

SUPPLEMENTARY INFORMATION: The meeting is being held in conjunction with the National Conference of State Transportation Specialists Annual Conference: The Ross Bridge Resort, 4000 Grand Avenue, Birmingham, Alabama 35226.

FOR FURTHER INFORMATION CONTACT: Mr. William Quade, (202) 366-2172, Director, Office of Safety Programs, Federal Motor Carrier Safety Administration, or Mr. Bryan Price, (412) 395-4816, Transportation Specialist, FMCSA Pennsylvania Division Office, office hours are from 8 a.m. to 5 p.m., E.T. Monday through Friday except Federal holidays.

Dated: June 7, 2006.
David Hugel,
Deputy Administrator.

[FR Doc. 06-5316 Filed 6-7-06; 4:09 pm]

BILLING CODE 4910-EX-P